ENVIRONMENTAL PROTECTION AGENCY

[FRL-7149-1]

Proposed Settlement, Clean Air Act Citizen Suit

AGENCY: Environmental Protection Agency.

ACTION: Notice of proposed consent decree; request for public comment.

SUMMARY: In accordance with section 113(g) of the Clean Air Act, as amended (“Act”), 42 U.S.C. 7413(g), notice is hereby given of a proposed consent decree which was lodged with the United States District Court for the Northern District of California by the United States Environmental Protection Agency (“EPA”) on January 15, 2002 to address a lawsuit filed by the Medical Alliance for Healthy Air, Sierra Club, Latino Issues Forum and Center on Race, Poverty and the Environment, a project of the California Rural Legal Assistance Foundation. This lawsuit, which was filed pursuant to section 304(a) of the Act, 42 U.S.C. 7604(a), addresses EPA's alleged failure to meet mandatory deadlines under section 110(k) of the Act, 42 U.S.C. 7410(k), to take final actions to approve or disapprove the 1997 PM-10 Attainment Demonstration Plan for the San Joaquin Valley (“SJV”) in California and six individual rules for the control of PM-10 and nitrogen oxide (NOX) in the SJV. Medical Alliance for Healthy Air et al. v. EPA, Case No. C-01-4086 JCS (N.D. Cal.).

DATES: Written comments on the proposed consent decree must be received by March 27, 2002.

ADDRESSES: Written comments should be sent to Jan Taradash, Office of Regional Counsel, U.S. Environmental Protection Agency Region 9, 75 Hawthorne Street, San Francisco, CA 94105. Copies of the proposed consent decree are available from Jan Taber, (415) 972-3900.

SUPPLEMENTARY INFORMATION: The Clean Air Act requires EPA to take action to approve or disapprove a State implementation plan revision within 12 months of a determination by the Administrator that such revision is complete. See section 110(k)(1)-(4), 42 U.S.C. 7410(k)(1)-(4). In 1997, the California Air Resources Board (“CARB”) submitted to EPA the PM-10 Attainment Demonstration Plan (“1997 Plan”) for the SJV as a proposed revision to the California State Implementation Plan (“SIP”). This SIP revision was deemed complete by operation of law in 1998 pursuant to section 110(k)(1)(B), 42 U.S.C. 7410(k)(1)(B). The proposed consent decree provides that the Administrator or her delegatee shall sign no later than March 1, 2002, a notice for publication in the Federal Register proposing action on the 1997 Plan and shall sign no later than August 16, 2002 a notice for publication in the Federal Register taking final action pursuant to section 110(k) of the Act, 42 U.S.C. 7410(k).

From 1993 through 1998, CARB also submitted six rules adopted by the San Joaquin Valley Unified Control District for the control of PM-10 and NOX in the SJV and EPA found them to be complete pursuant to section 110(k)(1)(B), 42 U.S.C. 7410(k)(1)(B) as follows: Rules 4201 (1992), 4901 (1994), 4351 (1996), 4305 (1997), 4701 (1998) and 4703 (1998). EPA has proposed action on these rules pursuant to section 110(k) of the Act, 42 U.S.C. 7410(k). The proposed consent decree provides that the Administrator or her delegatee shall sign no later than January 15, 2002, a notice or notices for publication in the Federal Register taking final action on Rules 4901, 4351, 4305, 4701 and 4703 and shall sign such a notice taking final action on Rule 4201 no later than April 7, 2002. The Administrator signed notices by January 15, 2002, taking final action on Rules 4901, 4351, 4305, 4701 and 4703.

For a period of thirty (30) days following the date of publication of this notice, EPA will receive written comments relating to the proposed consent decree from persons who were not named as parties to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.

Dated: February 15, 2002.
Alan W. Eckert,
Associate General Counsel, Air and Radiation Law Office.

[FR Doc. 02-4404 Filed 2-22-02; 8:45 am]

BILLING CODE 6560-50-P